NATIONAL AERONAUTICS AND SPACE ADMINSTRATION

[Notice (05-027)]

NASA Sun-Solar System Connection Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Sun-Solar System Connection Strategic Roadmap Committee.

DATES: Tuesday, March 15, 2005, 8:30 a.m. to 5 p.m., Wednesday, March 16, 2005, 8:30 a.m. to 5 p.m. eastern standard time.

ADDRESSES: Inn and Conference Center, University of Maryland, 3501 University Boulevard East, Adelphi, Maryland 20783.

FOR FURTHER INFORMATION CONTACT: Dr. Barbara Giles, 202-358-1762.

SUPPLEMENTARY INFORMATION: The meeting will be open to the public up to the seating capacity of the meeting room. Attendees will be requested to sign a register.

The agenda for the meeting is as follows:

—Sun-Earth Systems Program Update.

—Reports on Sun-Solar System Connection Roadmap foundation work.

—Identification of joint interests with Earth Science Roadmap effort.

—Prioritization of science objectives and missions under study.

It is imperative that the meeting be held on these dates to accommodate the scheduling priorities of the key participants.

Dated: February 10, 2005.
P. Diane Rausch,
Advisory Committee Management Officer, National Aeronautics and Space Administration.

[FR Doc. 05-3109 Filed 2-17-05; 8:45 am]

BILLING CODE 7510-13-P